DEPARTMENT OF HOMELAND SECURITY

Coast Guard

[Docket No. USCG-2010-0164]

National Boating Safety Advisory Council; Meeting

AGENCY: Coast Guard, DHS.

ACTION: Notice of Federal Advisory Committee Meeting.

SUMMARY: The National Boating Safety Advisory Council (NBSAC) will meet on October 14, 2011, in Washington, DC. NBSAC discusses issues relating to recreational boating safety. This meeting will be open to the public.

DATES: NBSAC will meet Friday, October 14, 2011, from 8 a.m. to 5 p.m. Please note that the meeting may conclude early if NBSAC has completed its business.

All written materials, comments, and requests to make oral presentations at the meeting should reach Mr. Jeff Ludwig, Assistant Designated Federal Officer (ADFO) for NBSAC by October 3, 2011. Any written material submitted by the public will be distributed to the committee and become part of the public record.

ADDRESSES: The meeting will be held in the US Access Board's conference room, 1331 F Street NW., Suite 800, Washington, DC 20004.

For information on facilities or services for individuals with disabilities or to request special assistance at the meeting, contact Mr. Jeff Ludwig as soon as possible.

To facilitate public participation, we are inviting public comment on the issues to be considered by the committee as listed in the “Agenda” section below.

Please send written material, comments, and requests to make oral presentations to Mr. Jeff Ludwig, ADFO for NBSAC, by one of the submission methods described below. Written comments must be identified by Docket Number USCG-2010-0164:

• Federal eRulemaking Portal: http://www.regulations.gov. Follow the instructions for submitting comments.

• E-mail: jeffrey.a.ludwig@uscg.mil. Include the docket number in the subject line of the message.

• Fax: (202) 372-1932.

• Mail: Mr. Jeff Ludwig, COMDT (CG-54221), 2100 2nd Street, SW., Stop 7581, Washington, DC 20593. We encourage use of electronic submissions because security screening may delay the delivery of mail.

FOR FURTHER INFORMATION CONTACT: Mr. Jeff Ludwig, ADFO for NBSAC, COMDT (CG-54221), 2100 2nd Street, SW., Stop 7581, Washington, DC 20593; (202) 372-1061; jeffrey.a.ludwig@uscg.mil.

SUPPLEMENTARY INFORMATION: Notice of this meeting is given under the Federal Advisory Committee Act (FACA), (Title 5 United States Code, Appendix). Congress established NBSAC in the Federal Boat Safety Act of 1971 (Pub. L. 92-75). NBSAC currently operates under the authority of 46 U.S.C. 13110, which requires the Secretary of Homeland Security, and the Commandant of the Coast Guard by delegation, to consult with NBSAC in prescribing regulations for recreational vessels and associated equipment, and on other major safety matters. See 46 U.S.C. 4302(c) and 13110(c).

Meeting Agenda

The agenda for NBSAC meeting is as follows:

(1) Opening Remarks—Mr. James P. Muldoon, NBSAC Chairman and RADM James Watson, USCG Director of Prevention Policy;

(2) Receipt and discussion of the following reports:

(a) Chief, Office of Auxiliary and Boating Safety Update on NBSAC Resolutions and Recreational Boating Safety Program report.

(b) Assistant Designated Federal Officer's report.

(c) Towing Safety Advisory Committee (TSAC) Liaison's report.

(d) Navigation Safety Advisory Council (NAVSAC) Liaison's report.

(e) National Association of State Boating Law Administrators (NASBLA) report.

(f) Boating Industry Risk Management Council (BIRMC) Liaison's report.

(3) Presentation on Inflatable Life Jackets for 13-15 Year Olds.

(4) Presentation on Progress Made on Recommendation Regarding the Development of New Life Jacket Standards and Approval Processes for Life Jackets.

(5) Strategic Planning, Prevention Through People, and Boats & Associated Equipment Subcommittee reports.

A more detailed agenda can be found at: http://homeport.uscg.mil/NBSAC, after September 30, 2011.

Procedural:

This meeting will be open to the public. Please note that the meeting may conclude early if all business is finished. Members of the public may make oral presentations during the meeting concerning the matters being discussed. Public comments will be limited to three minutes per speaker. If you would like to make an oral presentation at the meeting, please notify Mr. Jeff Ludwig as described in the ADDRESSES section above by October 3, 2011.

Dated: September 16, 2011.
James A. Watson,
Rear Admiral, U.S. Coast Guard, Director of Prevention Policy.

[FR Doc. 2011-24334 Filed 9-21-11; 8:45 am]

BILLING CODE 9110-04-P